DEPARTMENT OF HEALTH AND HUMAN SERVICES

National Institutes of Health

Center for Scientific Review; Amended Notice of Meeting

Notice is hereby given of a change in the meeting of the Integrative Physiology of Obesity and Diabetes Study Section, October 24, 2013, 8:00 a.m. to October 25, 2013, 5:00 p.m., Avenue Hotel Chicago, 160 E. Huron Street, Chicago, IL, 60611 which was published in the Federal Register on October 1, 2013, 78 FR 60297-60299.

The meeting will start on December 19, 2013 at 8:00 a.m. and end on December 20, 2013 at 6:00 p.m. The location remains the same. The meeting is closed to the public.

Dated: October 25, 2013.
Anna Snouffer,
Deputy Director, Office of Federal Advisory Committee Policy.

[FR Doc. 2013-25761 Filed 10-29-13; 8:45 am]

BILLING CODE 4140-01-P